DEPARTMENT OF TRANSPORTATION

Federal Aviation Administration

Notice of Passenger Facility Charge (PFC) Approvals and Disapprovals

AGENCY: Federal Aviation Administration (FAA), DOT.

ACTION: Monthly notice of PFC approvals and disapprovals. In December 2008, there were six applications approved. This notice also includes information on five other applications, one approved in November 2007, another approved in April 2008, another approved in August 2008, and the remaining two approved in November 2008, inadvertently left off the November 2007, April 2008, August 2008, and November 2008 notices, respectively. Additionally, 19 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: The Pennsylvania State University, State College, Pennsylvania.

Application Number: 08-05-C-00-UNV.

Application Type: Impose and use a PFC.

PFC Level: $4.50.

Total PFC Revenue Approved in this Decision: $4,139,384.

Earliest Charge Effective Date: February 1, 2009.

Estimated Charge Expiration Date: December 1, 2013.

Class of Air Carriers Not Required to Collect PFC's: Air taxis operating under Part 135.

Determination: Approved. Based on information contained in the public agency's application, the FAA has determined that the approved class accounts for less than 1 percent of the total annual enplanements at University Park Airport.

Brief Description of Projects Approved for Collection and Use:

Install guidance signs (convert runway 16/24 to taxiway J), install guidance signs (runway 6/24), install runway 6/24 distance-to-go signs.

Install security control and access improvements.

Modify terminal building, phase III.

Acquire land for terminal development (Alexander, 31.96 acres).

Construct airport traffic control tower, phase III construction.

Acquire aircraft rescue and firefighting safety equipment and fire suits.

Wildlife assessment.

PFC administration.

Decision Date: November 13, 2007.

FOR FURTHER INFORMATION CONTACT: Lori Ledebohm, Harrisburg Airports District Office, (717) 730-2835.

Public Agency: Hattiesburg-Laurel Regional Airport Authority, Moselle, Mississippi.

Application Number: 08-06-C-00-PIB.

Application Type: Impose and use a PFC.

PFC Level: $4.50.

Total PFC Revenue Approved in this Decision: $252,457.

Earliest Charge Effective Date: October 1, 2008.

Estimated Charge Expiration Date: May 1, 2013.

Class of Air Carriers Not Required to Collect PFC's: None.

Brief Description of Projects Approved for Collection and Use:

Purchase handicap loading devices.

Upgrade security access and surveillance equipment.

Decision Date: April 30, 2008.

FOR FURTHER INFORMATION CONTACT: William Shuller, Jackson Airports District Office, (601) 664-9883.

Public Agency: Counties of Colbert and Lauderdale, Muscle Shoals, Alabama.

Application Number: 08-05-C-00-MSL.

Application Type: Impose and use a PFC.

PFC Level: $4.50.

Total PFC Revenue Approved in this Decision: $120,000.

Earliest Charge Effective Date: April 1, 2009.

Estimated Charge Expiration Date: April 1, 2013.

Class of Air Carriers Not Required to Collect PFC's: None.

Brief Description of Projects Approved for Collection and Use:

Rehabilitate runway 18/36.

Rehabilitate runway 11/29.

Acquire aircraft rescue and firefighting vehicle.

Install new heating/air conditioning units.

Decision Date: August 26, 2008.

FOR FURTHER INFORMATION CONTACT: Keafur Grimes, Jackson Airports District Office, (601) 664-9886.

Public Agency: County of Sacramento, Sacramento, California.

Application Number: 08-08-C-00-SMF.

Application Type: Impose and use a PFC.

PFC Level: $4.50.

Total PFC Revenue Approved in this Decision: $603,497,524.

Earliest Charge Effective Date: July 1, 2011.

Estimated Charge Expiration Date: February 1, 2028.

Class of Air Carriers Not Required to Collect PFC's: None.

Brief Description of Projects Approved for Collection and Use:

Terminal modernization program.

Determination: The proposed security facilities were determined to be ineligible because the public agency failed to provide documentation of concurrence from the Transportation Security Administration. In addition, offices associated with the federal inspection services facility and the proposed hotel landscaping did not meet the requirements of § 158.15(b) and, thus, were found ineligible. The proposed engineering, design, construction administration, and other “soft costs” were found ineligible because the public agency failed to provide sufficient information to allow the FAA to determine eligibility. Finally, the public agency listed “contingencies and escalation for inflation” in its PFC application however, these types of costs are not PFC-eligible.

Decision Date: November 26, 2008.

FOR FURTHER INFORMATION CONTACT: TJ Chen, San Francisco Airports District Office, (650) 876-2778, extension 625.

Public Agency: City of Redmond, Oregon.

Applications Number: 09-07-C-00-RDM.

Application Type: Impose and use a PFC.

PFC Level: $4.50.

Total PFC Revenue Approved in this Decision: $25,000,000.

Earliest Charge Effective Date: July 1, 2010.

Estimated Charge Expiration Date: July 1, 2040.

Class of Air Carriers Not Required to Collect PFCS: Nonscheduled/on-demand air carriers filing FAA Form 1800-31.

Determination: Approved. Based on information contained in the Public Agency's application, the FAA has determined that the approved class accounts for less than 1 percent of the total annual enplanements at Roberts Field.

Brief Description of Project Approved for Collection and Use:

Construction terminal expansion.

Decision Date: November 26, 2008.

FOR FURTHER INFORMATION CONTACT: Trang Tran, Seattle Airports District Office, (425) 227-1662.

Public Agency: Pinellas County Board of Commissioners, Clearwater, Florida.

Application Number: 08-02-C-00-PIE.

Application Type: Impose and use a PFC.

PFC Level: $4.50.

Total PFC Revenue Approved in this Decision: $2,668,450.

Earliest Charge Effective Date: February 1, 2009.

Estimated Charge Expiration Date: June 1, 2011.

Class of Air Carriers Not Required to Collect PFC's: Air taxi/commercial operators filing FAA Form 1800-31.

Determination: Approved. Based on information contained in the public agency's application, the FAA has determined that the approved class accounts for less than 1 percent of the total annual enplanements at St. Petersburg—Clearwater International Airport.

Brief Description of Projects Approved for Collection and Use:

Terminal improvements.

Airfield improvements.

PFC application administration.

Decision Date: December 19, 2008.

For Further Information Contact: Susan Moore, Orlando Airports District Office, (407) 812-6331, extension 120.

Public Agency: County of Broward, Fort Lauderdale, Florida.

Application Number: 08-09-C-00-FLL.

Application Type: Impose and use a PFC.

PFC Level: $4.50.

Total PFC Revenue Approved in this Decision: $143,826,944.

Earliest Charge Effective Date: January 1, 2010.

Estimated Charge Expiration Date: October 1, 2012.

Class of Air Carriers Not Required to Collect PFCs:

Nonscheduled/on-demand air carriers.

Determination: Approved. Based on information contained in the public agency's application, the FAA has determined that the approved class accounts for less than 1 percent of the total annual enplanements at Fort Lauderdale—Hollywood International Airport.

Brief Description of Projects Approved for Collection and Use at a $3.00 PFC Level:

Airline information system—phase II.

Escalator replacement at terminals T2, T3, and T4.

Flight information display system monitor replacement at terminal 4.

Taxiway and ramp rehabilitation.

Taxiway C—phase I west.

High speed taxiways and add alternates.

Terminals T1, T2, T3, and T4 public restroom and associated infrastructure improvements—phase I.

Comprehensive airport signage system—final planning and construction phase I.

Brief Description of Projects Approved for Collection and Use at a $4.50 PFC Level:

Terminal 4—phase ID—security improvements.

Noise mitigation—design and construction.

Brief Description of Withdrawn Project:

Concourse A—design and construction.

Date of Withdrawal: December 18, 2008.

Decision Date: December 22, 2008.

For Further Information Contact: Susan Moore, Orlando Airports District Office, (407) 812-6331, extension 120.

Public Agency: Pitt County—City of Greenville Airport Authority, Greenville, North Carolina.

Application Number: 09-03-C-00-PGV.

Application Type: Impose and use a PFC.

PFC Level: $4.50.

Total PFC Revenue Approved in this Decision: $753,324.

Earliest Charge Effective Date: February 1, 2009.

Estimated Charge Expiration Date: August 1, 2012.

Class of Air Carriers Not Required to Collect PFCs:

None.

Brief Description of Projects Approved for Collection and Use:

Americans with Disabilities Act lift device.

Access road lighting.

Runway pavement strength study.

Corporate hangar site development.

Acquire snow removal equipment.

Aircraft rescue and firefighting building rehabilitation/extension.

Enhance taxiway hold markings.

Acquire runway friction meter equipment.

Entrance road improvements—design.

Runway 2/20 runway safety area/extension feasibility study.

Terminal building expansion/renovation study.

Replace glide slope equipment.

Runway 20 obstruction removal.

Security system rehabilitation.

Entrance road improvements.

Runway 2/20 runway safety area/extension/terminal expansion environmental assessment.

Terminal departure area expansion design/construction.

Update airport layout plan/master plan for current critical aircraft geographic information system mapping.

Runway 2/20 crack sealing and remarking.

Apron edge lighting design and construction.

Terminal expansion/rehabilitation resign and permitting.

PFC application development.

PFC application administration.

Brief Description of Projects Approved for Collection:

Runway 2/20 land acquisition phase II.

Runway 2/20 runway safety area extension approach clearing.

Runway 2/20 runway safety area—engineered materials arresting system extension construction, phase I.

Terminal building expansion construction phase I.

Jetway loading bridge.

Brief Description of Disapproved Projects:

Disadvantaged business enterprise program update.

Determination: The project is not PFC eligible.

Runway 2/20 runway safety area/extension design and permitting.

Runway 2/20 land acquisition phase I.

Determination: The public agency did not provide environmental findings for these projects.

Decision Date: December 23, 2008.

For Further Information Contact: John Marshall, Atlanta Airports District Office, (404) 305-7153.

Public Agency: County of Onslow, Jacksonville, North Carolina.

Application Number: 09-04-C-00-OAJ.

Application Type: Impose and use a PFC.

PFC Level: $3.00.

Total PFC Revenue Approved in this Decision: $2,117,969.

Earliest Charge Effective Date: February 1, 2009.

Estimated Charge Expiration Date: August 1, 2013.

Class of Air Carriers Not Required to Collect PFCs:

None.

Brief Description of Projects Approved for Collection and Use:

Baggage conveyor system.

Ramp lighting.

Sanitary sewer—phase II—design.

Aircraft rescue and firefighting equipment (command vehicle).

2010 terminal renovations—design.

Communications equipment.

Aeronautical survey.

Aircraft rescue and firefighting equipment (turnout gear).

PFC application development.

PFC program administration.

Terminal area sanitation improvements.

2010 terminal renovations—design.

Brief Description of Projects Approved for Collection:

Terminal building rehabilitation.

Rehabilitate air carrier and general aviation apron—design.

Land acquisition—avigation easement.

Emergency access road improvements.

Air carrier apron rehabilitation.

General aviation apron expansion.

General aviation terminal access road.

Airfield drainage improvements.

Security/wildlife fencing.

Air traffic control tower—design.

Air traffic control tower—construction.

Decision Date: December 23, 2008.

For Further Information Contact: John Marshall, Atlanta Airports District Office, (404) 305-7153.

Public Agency: County of Onslow, Jacksonville, North Carolina.

Application Number: 09-05-U-00-OAJ.

Application Type: Use PFC revenue.

PFC Level: $3.00.

Total PFC Revenue Approved for Use in This Decision: $110,449.

Charge Effective Date: April 1, 2006.

Estimated Charge Expiration Date: January 1, 2009.

Class of Air Carriers Not Required to Collect PFCs:

No change from previous decision.

Brief Description of Project Approved for Use:

Rehabilitate runway 5/23—overlay.

Decision Date: December 23, 2008.

For Further Information Contact: John Marshall, Atlanta Airports District Office, (404) 305-7153.

Public Agency: City of San Jose, California.

Application Number: 08-16-C-00-SJC.

Application Type: Impose and use a PFC.

PFC Level: $4.50.

Total PFC Revenue Approved in this Decision: $120,403,000.

Earliest Charge Effective Date: December 1, 2026.

Estimated Charge Expiration Date: May 1, 2029.

Class of Air Carriers Not Required to Collect PFCs:

Nonscheduled/on-demand air carriers filing FAA Form 1800-31.

Determination: Approved. Based on information contained in the public agency's application, the FAA has determined that the approved class accounts for less than 1 percent of the total annual enplanements at Norman Y. Mineta San Jose International Airport.

Brief Description of Project Approved for Collection and Use at a $4.50 PFC Level:

Terminal B extension, phase I.

Brief Description of Project Approved for Collection and Use at a $3.00 PFC Level:

Roadway improvements: grade separations.

Decision Date: December 24, 2008.

For Further Information Contact: Ron Biaoco, San Francisco Airports District Office, (650) 876-2778, extension 626.

Amendments to PFC Approvals
Amendment No. city, state | Amended approved date | Original approved net PFC revenue | Amended approved net PFC revenue | Original estimated charge exp. date | Amended estimated charge exp. date
95-01-C-07-MKE Milwaukee, WI | 11/28/08 | $21,147,706 | $21,160,635 | 05/01/98 | 05/01/98
99-04-U-03-MKE Milwaukee, WI | 11/28/08 | NA | NA | 05/01/98 | 05/01/98
95-03-C-07-MKE Milwaukee, WI | 11/28/08 | 42,739,428 | 42,759,321 | 12/01/04 | 12/01/04
00-05-U-03-MKE Milwaukee, WI | 11/28/08 | NA | NA | 12/01/04 | 12/01/04
00-06-C-06-MKE Milwaukee, WI | 11/28/08 | 130,560,739 | 130,073,834 | 02/01/14 | 11/01/13
06-05-C-02-MOB Mobile, AL | 12/09/08 | 239,500 | 1,693,628 | 02/01/10 | 02/01/12
04-05-C-01-HTS Huntington, WV | 12/11/08 | 436,233 | 967,127 | 12/01/08 | 12/01/08
95-02-C-05-EWR Newark, NJ | 12/18/08 | 329,343,000 | 329,343,000 | 11/01/01 | 11/01/01
05-05-C-02-EWR Newark, NJ | 12/18/08 | 538,647,755 | 538,647,755 | 03/01/11 | 03/01/11
04-01-C-01-ELM Elmira, NY | 12/18/08 | 791,873 | 733,043 | 01/01/08 | 01/01/08
08-02-C-01-ELM Elmira, NY | 12/18/08 | 641,046 | 641,046 | 03/01/10 | 03/01/10
95-02-C-02-JFK New York, NY | 12/18/08 | 307,600,500 | 307,600,500 | 11/01/01 | 11/01/01
95-02-C-02-LGA New York, NY | 12/18/08 | 248,056,500 | 248,056,500 | 11/01/01 | 11/01/01
05-05-C-02-JFK New York, NY | 12/18/08 | 615,508,500 | 615,508,500 | 03/01/11 | 03/01/11
05-05-C-02-LGA New York, NY | 12/18/08 | 401,729,804 | 401,729,804 | 03/01/11 | 03/01/11
*02-03-C-03-PWM Portland, ME | 12/23/08 | 19,425,418 | 18,945,754 | 09/01/12 | 11/01/10
01-02-C-01-PGV Greenville, NC | 12/23/08 | 1,480,404 | 1,300,861 | 05/01/09 | 02/01/09
04-02-C-01-OAJ Jacksonville, NC | 12/23/08 | 667,815 | 639,769 | 04/01/05 | 04/01/05
06-03-C-01-OAJ Jacksonville, NC | 12/23/08 | 759,469 | 784,706 | 01/01/09 | 01/01/09

Note: The amendment denoted by an asterisk (*) includes a change to the PFC level charged from $3.00 per enplaned passenger to $4.50 per enplaned passenger. For Portland, ME, this change is effective on February 1, 2009.

Issued in Washington, DC, on February 12, 2009.
Joe Hebert,
Manager, Financial Analysis and Passenger Facility Charge Branch.

[FR Doc. E9-3532 Filed 2-19-09; 8:45 am]

BILLING CODE 4910-13-M